DEPARTMENT OF TRANSPORTATION

Federal Highway Administration

[Docket No. FHWA-2006-26431]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on September 21, 2006. We are required to publish this notice in the Federal Register by the Paperwork Reduction Act of 1995.

DATES: Please submit comments by December 29, 2006.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-26431.

FOR FURTHER INFORMATION CONTACT: Mr. Eric Weaver, (202) 493-3153, Long-Term Planning Program (HRDI-13), Office of Research Development and Technology, Federal Highway Administration, Turner-Fairbank Highway Research Center, 6300 Georgetown Pike, McLean, VA 22101. Office hours are from 7:30 a.m. to 4 p.m., Monday through Friday, except Federal holidays.

SUPPLEMENTARY INFORMATION: Title: Mechanistic Empirical Pavement Design National Status Survey.

Background: In June 2004, the National Cooperative Highway Research Program (NCHRP) released the Mechanistic Empirical Pavement Design Guide (MEPDG) for New and Rehabilitated Pavement Structures. FHWA organized a Design Guide Implementation Team (DGIT) to immediately begin the process of informing, educating, and assisting FHWA field offices, State Highway Agencies, Industry, and others about the new design guide. FHWA considers implementation of mechanistic-empirical pavement design a critical element in improving the National Highway System. It ties directly into objectives listed in the Safe, Accountable, Flexible, Efficient, Transportation Equity Act: A Legacy for Users, (SAFETEA-LU), Section 1503, which supports longer life pavements. Consequently, the impacts of long-life pavements include congestion mitigation and improved work zone safety.

The MEPDG represents a significant advancement in pavement design and includes the best available engineering theory and mechanistic principles to determine both the structural response and to predict performance over the lifetime of a pavement structure.

The mechanistic theory is balanced with over 525 empirical observations from the Long Term Pavement Performance database that represents a wide range of both material and climatic conditions. The use of both the mechanistic theory and a wide range of empirical observations make the MEPDG a robust design procedure.

The MEPDG can be considered a 40-year step forward in pavement design. The MEPDG is a more theoretical and mathematical based procedure, strongly bolstered by fundamental engineering principles and is readily useful to academia, researchers, and practitioners of pavement analysis and design.

The MEPDG provides significant potential benefits over the current AASHTO Guide in achieving cost-effective pavement designs and rehabilitation strategies. Most importantly, its user-oriented computational software implements an integrated analysis approach for predicting pavement condition over time. This analysis considers the complex interaction between traffic loadings, climatic conditions, materials and pavement structure.

Implementation of the MEPDG will require a significant amount of time, resources, and funding. However, the adoption of the guide has the potential for providing a substantial long-term savings based on the shear magnitude of annual expenditures for highway pavements. In 2003, over 79 billion dollars was used for highway purposes; based on data published in Highway Statistics 2003 from the Office of Highway Policy Information. Any improvement in the designs will have a significant implication in reducing costs to maintain these pavements and more than offset the resources required to implement the new pavement design guide.

The DGIT has put forth a strategic plan of action to aid the transportation community in deploying this new technology. The DGIT is an integral part of an extensive outreach campaign including Enhancement, Education, and Implementation strategies to promote the MEPDG. These activities include onsite and web based workshops that have already educated more than 1,200 engineers across the USA in 21 States and around the globe in Canada, Europe, China, India, Mexico, and Central and South America.

FHWA encourages States to evaluate the utility that the MEPDG offers and to carefully implement the guidelines and recommendations. The long-term goal of the AASHTO Joint Technical Committee on Pavements is to adopt the guide as an AASHTOWare product to replace the AASHTO 1993 design guide.

Moving towards a mechanistic-empirical design process represents a huge paradigm shift for the majority of states and will require a significant amount of education, training, new equipment, new testing requirements and data collection. Most importantly it will require better communication and coordination between the designers, materials engineers, traffic engineers, and consultants to collect and maintain the data needed to optimize the pavement designs and continue to validate and calibrate the models in the Guide. The DGIT is focused on being a leader in this effort by providing Education, Enhancement, and Implementation activities to the Transportation Community.

Burden Hours for Information Collection

Frequency: Bi-Annual.

Respondents: The Pavement Design Engineer in each State DOT, Puerto Rico, and the District of Columbia; for a total of 52.

Estimated Average Burden per response: Assuming 1 respondent per State plus Puerto Rico and the District of Columbia and 1 hr to respond to the survey the total will be approximately 52 burden hours. FHWA is seeking a 3-year approval and plans on conducting the survey in the first and third year of the approval time period. The estimated average annual burden is 35 hours.

Electronic Access: Internet users may access all comments received by the U.S. DOT Dockets, Room PL-401, by using the universal resource locator (URL): http://dms.dot.gov, 24 hours each day, 365 days each year. Please follow the instructions online for more information and help.

Authority: The Paperwork Reduction Act of 1995; 44 U.S.C. Chapter 35, as amended; and 49 CFR 1.48.

Issued on: November 22, 2006.
James R. Kabel,
Chief, Management Programs and Analysis Division.

[FR Doc. E6-20208 Filed 11-28-06; 8:45 am]

BILLING CODE 4910-22-P